DEPARTMENT OF THE INTERIOR

National Park Service

[NPS-PWR-KAHO-11254; 8320-SZM]

Notice of November 15, 2012, Meeting for Na Hoa Pili O Kaloko-Honokohau National Historical Park Advisory Commission Meeting

AGENCY: National Park Service, Interior.

ACTION: Meeting notice.

SUMMARY: This notice sets forth the date of the November 15, 2012, meeting of the Na Hoa Pili O Kaloko-Honokohau National Historical Park Advisory Commission.

DATES: The public meeting of the Advisory Commission will be held on Thursday, November 15, 2012, at 11:00 a.m. (Hawaii Standard Time).

Location: The meeting will be held at the Kaloko-Honokohau National Historical Park Kaloko Picnic Area, north of Honokohau Harbor, Kailua Kona, HI 96740.

Agenda

The November 15, 2012, Commission meeting will consist of the following:

1. Approval of Agenda.

2. Overview of the Advisory Commission.

3. Overview of the Spirit of Kaloko-Honokohau Report.

4. Chairman's Report.

5. Superintendent's Report.

6. Review of Interpretive Programs.

7. Public Comments.

8. Site Visit to Kaloko Kuapa.

FOR FURTHER INFORMATION CONTACT: Further information concerning this meeting may be obtained from the Superintendent Kathleen Billings, Kaloko-Honkohau National Historical Park, 73-4786 Kanalani Street, #14, Kailua Kona, HI 96740, telephone (808) 329-6881.

SUPPLEMENTARY INFORMATION: The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: October 17, 2012.
Kathleen J. Billings,
Superintendent, Kaloko-Honokohau National Historical Park.

[FR Doc. 2012-27164 Filed 11-6-12; 8:45 am]

BILLING CODE 4312-FF-P